NATIONAL SCIENCE FOUNDATION

Committee on Equal Opportunities in Science and Engineering; Notice of Meeting

In accordance with the Federal Advisory Committee Act (Pub. L. 92-463, as amended), the National Science Foundation (NSF) announces the following meeting:

Name and Committee Code: Committee on Equal Opportunities in Science and Engineering (CEOSE) (#1173).

Date and Time: February 12, 2024: 1:00 p.m.-5:30 p.m.; February 13, 2024: 10:00 a.m.-4:00 p.m.

Place: National Science Foundation, 2415 Eisenhower Avenue, Alexandria, VA 22314 (Hybrid).

Meeting Registration: Hybrid attendance information will be forthcoming on the CEOSE website at http://www.nsf.gov/od/oia/activities/ceose/index.jsp.

Type of Meeting: Open.

Contact Person: Dr. Bernice Anderson, Senior Advisor and CEOSE Executive Secretary, Office of Integrative Activities (OIA), National Science Foundation, 2415 Eisenhower Avenue, Alexandria, VA 22314. Contact Information: Phone: 703-292-8040, Email: banderso@nsf.gov.

Minutes: Meeting minutes and other information may be obtained from the CEOSE Executive Secretary at the above address or the website at http://www.nsf.gov/od/oia/activities/ceose/index.jsp.

Purpose of Meeting: To study data, programs, policies, and other information pertinent to the National Science Foundation and to provide advice and recommendations concerning broadening participation in science and engineering.

Agenda

Day 1: February 12, 2024

1:00 p.m.-1:30 p.m. Opening, Welcome, Introductions

1:30 p.m.-2:30 p.m. Discussion: 2023 CEOSE Report on Rural STEM

2:30 p.m.-3:00 p.m. Presentation: Report of the CEOSE Executive Liaison

3:00 p.m.-3:15 p.m. Break

3:15 p.m.-4:30 p.m. Presentation: NSF Response to the 2022 Envisioning the Future of NSF EPSCoR Report Recommendations and the CHIPS and Science Act Requirements

4:30 p.m.-5:30 p.m. Discussion: Reports of the CEOSE AC Liaisons

Day 2: February 13, 2024

10:00 a.m.-10:15 a.m.—Opening Remarks, CEOSE Chair

10:15 a.m.-11:15 a.m.—Presentation: Bridging IHEs and Underserved Communities

11:15 a.m.-12:00 p.m.—Briefing: Advancing Antiracism, Diversity, Equity, and Inclusion in STEM

12:00 p.m.-1:30 p.m.—Working Lunch: Topics/Advice to Share with NSF Senior Leadership

1:30 p.m.-2:00 p.m.—Discussion with NSF Leadership

2:00 p.m.-2:15 p.m.—Break

2:15 p.m.-3:00 p.m.—Panel: NSF Supporting Native Communities: Part 1

3:00 p.m.-3:30 p.m.—Discussion: 2023-2024 CEOSE Report to Congress

3:30 p.m.-4:00 p.m.—Announcements, Closing Remarks, Adjournment

Dated: December 11, 2023.
Crystal Robinson,
Committee Management Officer.

[FR Doc. 2023-27542 Filed 12-14-23; 8:45 am]

BILLING CODE 7555-01-P